DEPARTMENT OF TRANSPORTATION

Federal Aviation Administration

14 CFR Part 39

[Docket No. 2001-CE-41-AD; Amendment 39-12672; AD 2002-05-04]

RIN 2120-AA64

Airworthiness Directives; SOCATA—Groupe AEROSPATIALE Models MS 892A-150, MS 892E-150, MS 893A, MS 893E, MS 894A, MS 894E, Rallye 150T, and Rallye 150ST Airplanes

AGENCY: Federal Aviation Administration, DOT.

ACTION: Final rule.

SUMMARY: This amendment supersedes Airworthiness Directive (AD) 77-15-06, which applies to all SOCATA—Groupe AEROSPATIALE (Socata) Models MS 892A-150, MS 892E-150, MS 893A, MS 893E, Rallye 150T, and Rallye 150ST airplanes. AD 77-15-06 currently requires you to repetitively inspect the engine mount assembly for cracks, repair any cracks found, and modify the brackets on airplanes with right angle engine mounts. This AD is the result of the French airworthiness authority's determination that updated service information and additional aircraft should be added to the applicability of AD 77-15-06. This AD retains the inspection and repair requirements of the current AD and adds the information communicated by the French airworthiness authority. The actions specified by this AD are intended to detect and correct cracks in the engine mount assembly. Such a condition could cause the engine mount assembly to fail, which could result in loss of control of the airplane.

DATES: This AD becomes effective on April 22, 2002.

The Director of the Federal Register approved the incorporation by reference of certain publications listed in the regulations as of April 22, 2002.

ADDRESSES: You may get the service information referenced in this AD from SOCATA Groupe AEROSPATIALE, Customer Support, Aerodrome Tarbes-Ossun-Lourdes, BP 930—F65009 Tarbes Cedex, France; telephone: 011 33 5 62 41 73 00; facsimile: 011 33 5 62 41 76 54; or the Product Support Manager, SOCATA—Groupe AEROSPATIALE, North Perry Airport, 7501 Pembroke Road, Pembroke Pines, Florida 33023; telephone: (954) 893-1400; facsimile: (954) 964-4191. You may view this information at the Federal Aviation Administration (FAA), Central Region, Office of the Regional Counsel, Attention: Rules Docket No. 2001-CE-41-AD, 901 Locust, Room 506, Kansas City, Missouri 64106; or at the Office of the Federal Register, 800 North Capitol Street, NW, suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

Has FAA Taken Any Action to This Point?

Fatigue cracks found on the engine mount assemblies of Socata Models MS 892A-150, MS 892E-150, MS 893A, MS 893E, Rallye 150T, and Rallye 150ST airplanes caused us to issue AD 77-15-06, Amendment 39-2975. AD 77-15-06 currently requires the following:

—Inspecting the engine mount assembly for cracks at repetitive intervals;

—Repairing any cracks found; and

—Modifying the brackets on airplanes with right angle engine mounts.

What Has Happened Since AD 77-15-06 To Initiate This Action?

The Direction Générale de l'Aviation Civile (DGAC), which is the airworthiness authority for France, recently notified FAA of the need to change AD 77-15-06. The DGAC reports that:

—The manufacturer has issued new service information to address the unsafe condition;

—Additional airplane models should be added to the applicability; and

—The initial compliance time should be changed from 100 hours time-in-service (TIS) to 50 hours TIS.

What Is the Potential Impact if FAA Took No Action?

This condition, if not detected and corrected, could cause the engine mount assembly to fail. Such failure could result in loss of control of the airplane.

Has FAA Taken Any Action to This Point?

We issued a proposal to amend part 39 of the Federal Aviation Regulations (14 CFR part 39) to include an AD that would apply to all Socata Models MS 892A-150, MS 892E-150, MS 893A, MS 893E, MS 894A, MS 894E, Rallye 150T, and Rallye 150ST airplanes. This proposal was published in the Federal Register as a notice of proposed rulemaking (NPRM) on December 17, 2001 (66 FR 64928). The NPRM proposed to supersede AD 77-15-06 with a new AD that would require you to:

—Repetitively inspect any engine mount assembly that is not part number 892-51-0-035-0 (or FAA-approved equivalent part number) for cracks;

—Repair cracks that do not exceed a certain length; and

—Replace the engine mount when the cracks exceed a certain length and cracks are found on an engine mount that already has two repairs.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 81 airplanes in the U.S. registry.

What Is the Cost Impact of This AD on Owners/Operators of the Affected Airplanes?

We estimate the following costs to accomplish each inspection:

Labor cost | Parts cost | Total cost per airplane | Total cost on U.S. operators
1 workhour × $60 = $60 | No parts required | $60 | $60 × 81 = $4,860

We estimate the following costs to accomplish any necessary repairs that will be required based on the results of each inspection. We have no way of determining the number of airplanes that may need such repair:

Labor cost | Parts cost | Total cost per airplane
3 workhours × $60 = $180 | No parts required | $180

We estimate the following costs to accomplish any necessary replacements that will be required based on the results of each inspection. We have no way of determining the number of airplanes that may need such replacement:

Labor cost | Parts cost | Total cost per airplane
9 workhours × $60 = $540 | $3,500 | $540 + $3,500 = $4,040

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 77-15-06, Amendment 39-2975, and by adding a new AD to read as follows:

2002-05-04 SOCATA—Groupe AEROSPATIALE: Amendment 39-12672; Docket No. 2001-CE-41-AD; Supersedes AD 77-15-06, Amendment 39-2975.

(a) What airplanes are affected by this AD? This AD affects the following airplane models and serial numbers that are certificated in any category and do not have a part number 892-51-0-035-0 engine mount assembly (or FAA-approved equivalent part number) installed:

Model | Serial No.
MS 892A-150 | All serial numbers.
MS 892E-150 | All serial numbers.
MS 893A | All serial numbers.
MS 893E | All serial numbers.
MS 894A | 1005 through 2204 equipped with kit OPT8098 9037.
MS 894E | 1005 through 2204 equipped with kit OPT8098 9037.
Rallye 150T | All serial numbers.
Rallye 150ST | All serial numbers.

(b) Who must comply with this AD? Anyone who wishes to operate any of the airplanes identified in paragraph (a) of this AD must comply with this AD.

(c) What problem does this AD address? The actions specified by this AD are intended to detect and correct cracks in the engine mount assembly. Such a condition could cause the engine mount assembly to fail, which could result in loss of control of the airplane.

(d) What actions must I accomplish to address this problem? To address this problem, you must accomplish the following:

Actions | Compliance | Procedures
(1) Inspect the engine mount assembly for cracks | For airplanes previously affected by AD 77-15-06: inspect within the next 50 hours time-in-service (TIS) after the last inspection required by AD 77-15-06 or within the next 50 hours TIS after April 22, 2002 (the effective date of this AD), whichever occurs first, and thereafter at intervals not to exceed 50 hours TIS. For all other airplanes: inspect within the next 50 hours TIS after April 22, 2002 (the effective date of this AD) and thereafter at intervals not to exceed 50 hours TIS | In accordance with the Accomplishment Instructions section of Socata Service Bulletin SB 156-71, dated May 2001.
(2) If any crack is found during any inspection required by this AD that is less than 0.24 inches (6 mm) in length, repair the engine mounts assembly. If two repairs on the engine mount have already been performed, replace in accordance with paragraph (d)(3) of this AD | Prior to further flight after the inspection in which the crack is found | In accordance with the Accomplishment Instructions section of Socata Service Bulletin SB 156-71, dated May 2001.
(3) If any crack is found during any inspection required by this AD that is 0.24 inches (6 mm) or longer in length or if any crack is found and two repairs on the engine mount have already been performed, replace the engine mount assembly with part number 892-51-0-035-0 (or FAA-approved equivalent part number) | Prior to further flight after the inspection in which the crack is found. Repetitive inspections are no longer required after this replacement | In accordance with the applicable maintenance manual. | (4) You may terminate the repetitive inspections of this AD after installing engine mount assembly, part number 892-51-0-035-0 (or FAA-approved equivalent part number) | At any time but it must be done prior to further flight if any of the criteria of paragraph (d)(3) are met | In accordance with the applicable maintenance manual.

(e) Can I comply with this AD in any other way?

(1) You may use an alternative method of compliance or adjust the compliance time if:

(i) Your alternative method of compliance provides an equivalent level of safety; and

(ii) The Manager, Small Airplane Directorate, approves your alternative. Submit your request through an FAA Principal Maintenance Inspector, who may add comments and then send it to the Manager, Small Airplane Directorate.

(2) Alternative methods of compliance approved in accordance with AD 77-15-06, which is superseded by this AD, are not approved as alternative methods of compliance with this AD.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Socata Service Bulletin SB 156-71, dated May 2001. The Director of the Federal Register approved this incorporation by reference under 5 U.S.C. 552(a) and 1 CFR part 51. You can get copies from SOCATA Groupe AEROSPATIALE, Customer Support, Aerodrome Tarbes-Ossun-Lourdes, BP 930—F65009 Tarbes Cedex, France; or the Product Support Manager, SOCATA Groupe AEROSPATIALE, North Perry Airport, 7501 Pembroke Road, Pembroke Pines, Florida 33023. You can look at copies at the FAA, Central Region, Office of the Regional Counsel, 901 Locust, Room 506, Kansas City, Missouri, or at the Office of the Federal Register, 800 North Capitol Street, NW., suite 700, Washington, DC.

(i) Does this AD action affect any existing AD actions? This amendment supersedes AD 77-15-06, Amendment 39-2975.

Note 2: The subject of this AD is addressed in French AD 2001-400(A), dated September 19, 2001.

(j) When does this amendment become effective? This amendment becomes effective on April 22, 2002.

Issued in Kansas City, Missouri, on March 1, 2002.
Michael Gallagher,
Manager, Small Airplane Directorate, Aircraft Certification Service.

[FR Doc. 02-5526 Filed 3-8-02; 8:45 am]

BILLING CODE 4910-13-P